NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities (NEH) will hold eight meetings, by videoconference, of the Humanities Panel, a federal advisory committee, during September 2021. The purpose of the meetings is for panel review, discussion, evaluation, and recommendation of applications for financial assistance under the National Foundation on the Arts and the Humanities Act of 1965.

DATES: See SUPPLEMENTARY INFORMATION for meeting dates. The meetings will open at 8:30 a.m. and will adjourn by 5:00 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. app.), notice is hereby given of the following meetings:

1. Date: September 1, 2021

This video meeting will discuss applications on the topics of Art and Literature, for the Digital Projects for the Public: Production Grants program, submitted to the Division of Public Programs.

2. Date: September 2, 2021

This video meeting will discuss applications on the topics of U.S. History and Civics, for the Digital Projects for the Public: Production Grants program, submitted to the Division of Public Programs.

3. Date: September 8, 2021

This video meeting will discuss applications on the topic of World History, for the Digital Projects for the Public: Production Grants program, submitted to the Division of Public Programs.

4. Date: September 8, 2021

This video meeting will discuss applications on the topic of Scholarly Communications, for the Digital Humanities Advancement Grants program, submitted to the Office of Digital Humanities.

5. Date: September 9, 2021

This video meeting will discuss applications on the topic of Computation Analysis, for the Digital Humanities Advancement Grants program, submitted to the Office of Digital Humanities.

6. Date: September 16, 2021

This video meeting will discuss applications on the topics of Data Visualization and Spatial Humanities, for the Digital Humanities Advancement Grants program, submitted to the Office of Digital Humanities.

7. Date: September 20, 2021

This video meeting will discuss applications on the topics of Pedagogy and Public Humanities, for the Digital Humanities Advancement Grants program, submitted to the Office of Digital Humanities.

8. Date: September 22, 2021

This video meeting will discuss applications on the topics of Collections and Access, for the Digital Humanities Advancement Grants program, submitted to the Office of Digital Humanities.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: August 5, 2021.
Elizabeth Voyatzis,
Committee Management Officer.

[FR Doc. 2021-17048 Filed 8-9-21; 8:45 am]

BILLING CODE 7536-01-P